DEPARTMENT OF THE INTERIOR

National Park Service

36 CFR Part 52

[NPS-WASO-39552; PPWOBSADC0; PPMVSCS1Y.Y00000]

RIN 1024-AE47

Visitor Experience Improvements Authority Contracts; Delay of Effective Date

AGENCY: National Park Service, Interior.

ACTION: Final rule; delay of effective date.

SUMMARY: In accordance with the memorandum of January 20, 2025, from President Donald J. Trump, titled “Regulatory Freeze Pending Review,” this action temporarily delays the effective date of a rule published on January 17, 2025, until March 21, 2025.

DATES: As of February 14, 2025, the effective date of the final rule adding part 52 to title 36 of the Code of Federal Regulations, published at 90 FR 5639, January 17, 2025, is delayed to March 21, 2025.

FOR FURTHER INFORMATION CONTACT: Kurt Rausch, Chief of Commercial Services Program, National Park Service; (202) 513-7202; kurt_rausch@nps.gov. For questions regarding the NPS's information collection request contact phadrea_ponds@nps.gov.

SUPPLEMENTARY INFORMATION: The National Park Service (NPS) is taking this action in response to the memorandum of January 20, 2025, from the President, titled “Regulatory Freeze Pending Review.” The memorandum directed the heads of Executive Departments and Agencies to consider postponing for 60 days from the date of the memorandum the effective date for any rules that have been published in the Federal Register but had not yet taken effect for the purpose of reviewing any questions of fact, law, and policy that the rules may raise. The NPS has determined the Visitor Experience Improvements Authority Contracts final rule meets the criteria for delaying the effective date. The new effective date for this regulation is March 21, 2025.

The NPS is taking this action, without opportunity for public comment and effective immediately, based on the good cause exceptions in 5 U.S.C. 553(b)(B) and 553(d)(3), in that seeking public comment is impracticable, unnecessary, and contrary to the public interest. The temporary delay in effective date until March 21, 2025, is necessary to give Agency officials the opportunity for further review and consideration of new regulations, consistent with the memorandum of the President dated January 20, 2025. Given the imminence of the effective date of this regulation, seeking prior public comment on this temporary delay is impractical, as well as contrary to the public interest in the orderly promulgation and implementation of regulations.

For the foregoing reasons, the good cause exception in 5 U.S.C. 553(d)(3) also applies to NPS's decision to make this action effective immediately. Moreover, to the extent that extending the effective date of this rule would grant an exception or relieve a restriction, an exception also applies under 5 U.S.C. 553(d)(1).

Where appropriate, the Agency may consider further delaying the effective date of the above-referenced regulations beyond March 21, 2025. If the Agency were to do so, consistent with the memorandum of the President, the Agency would consider whether to propose any later effective date for public comment.

Maureen D. Foster,
Chief of Staff, Exercising the Delegated Authority of the Assistant Secretary for Fish and Wildlife and Parks.

[FR Doc. 2025-02868 Filed 2-14-25; 4:15 pm]

BILLING CODE 4312-52-P